INTERNATIONAL TRADE COMMISSION

[Investigation No. 337-TA-1044]

Certain Graphics Systems, Components Thereof, and Consumer Products Containing the Same; Commission Determination To Institute a Modification Proceeding; Modification of the Limited Exclusion Order; and Termination of the Proceeding

AGENCY: U.S. International Trade Commission.

ACTION: Notice.

SUMMARY: Notice is hereby given that the U.S. International Trade Commission has determined to institute a modification proceeding. The Commission has further determined to grant a joint petition to modify in part a limited exclusion order (“LEO”) as to respondents MediaTek Inc. of Hsinchu City, Taiwan and Media Tek USA Inc. of San Jose, California (collectively, “MediaTek”) based on a settlement agreement. The Commission has issued a modified LEO. The modification proceeding is terminated.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted Investigation No. 337-TA-1044 on March 22, 2017, based on a complaint filed by Complainants Advanced Micro Devices, Inc. of Sunnyvale, California and ATI Technologies ULC of Canada (collectively, “AMD” or “Complainants”). See 82 FR 14748 (Mar. 22, 2017). The complaint, as amended, alleges violations of section 337 of the Tariff Act of 1930, as amended (19 U.S.C. 1337), based upon the importation into the United States, the sale for importation, and the sale within the United States after importation of certain graphics systems, components thereof, and consumer products containing the same, by reason of infringement of certain claims of U.S. Patent Nos. 7,633,506 (“the '506 patent); 7,796,133; 8,760,454; and 9,582,846. Id. In addition to MediaTek, the notice of investigation identifies the following respondents: LG Electronics, Inc. of Seoul, Republic of Korea; LG Electronics U.S.A., Inc. of Englewood Cliffs, New Jersey; and LG Electronics MobileComm U.S.A. Inc. of San Diego, California (collectively, “LG”); VIZIO, Inc. of Irvine, California (“VIZIO”); and Sigma Designs, Inc. (“SDI”) of Fremont, California. See id. The Office of Unfair Import Investigations (“OUII”) is also a party to the investigation. The Commission later terminated the investigation as to LG based on settlement. See Order No. 48 (Oct. 20, 2017), unreviewed, Comm'n Notice (Nov. 13, 2017).

On April 13, 2018, the Administrative Law Judge (“ALJ”) issued a final initial determination (“FID”) finding a violation of section 337 with respect to the '506 patent. On August 22, 2018, the Commission affirmed with modification the FID's findings. See 83 FR 43899 (Aug. 28, 2018). The Commission issued an LEO against respondents' infringing products and cease and desist orders (“CDOs”) against VIZIO and SDI. See id.

On September 11, 2018, Complainants and VIZIO filed a joint petition to modify in part the LEO as to VIZIO and to rescind the CDO against VIZIO, based on a settlement agreement. On October 5, 2018, the Commission granted the joint petition and issued a modified LEO. See 83 FR 51500 (Oct. 11, 2018).

On September 19, 2019, Complainants and MediaTek filed a joint petition (“Petition”) to modify in part the LEO as to MediaTek based on a settlement agreement. The Petition states that “[p]ursuant to this settlement, all MediaTek articles currently covered by the Commission's Modified Limited Exclusion Order are now licensed.” See Petition at 2. On September 30, 2019, OUII filed a response in support of the Petition.

In view of the settlement agreement between Complainants and MediaTek, the Commission finds that the conditions justifying the exclusion order against MediaTek no longer exist, and therefore, granting the joint petition is warranted under 19 U.S.C. 1337(k) and 19 CFR 210.76(a). Accordingly, the Commission has determined to institute a modification proceeding and to grant the joint petition to modify in part the LEO as to MediaTek. The Commission has issued a modified LEO. The modification proceeding is terminated.

The authority for the Commission's determination is contained in section 337 of the Tariff Act of 1930, as amended (19 U.S.C. 1337), and in part 210 of the Commission's Rules of Practice and Procedure (19 CFR part 210).

By order of the Commission.
Issued: October 15, 2019.
Lisa Barton,
Secretary to the Commission.

[FR Doc. 2019-22824 Filed 10-18-19; 8:45 am]

BILLING CODE 7020-02-P